DEPARTMENT OF TRANSPORTATION

National Highway Traffic Safety Administration

[Docket No. NHTSA-2018-0095, Notice 2]

Grant of Petitions for Decision of Inconsequential Noncompliance

AGENCY: National Highway Traffic Safety Administration (NHTSA), Department of Transportation (DOT).

ACTION: Grant of petitions.

SUMMARY: Ricon Corporation (Ricon), determined that certain Mirage, S-Series, and K-Series wheelchair lifts do not fully comply with Federal Motor Vehicle Safety Standard (FMVSS) No. 403, Platform Lift Systems for Motor Vehicles. Because of Ricon's determination, various vehicle manufacturers who installed the S-Series, and K-Series wheelchair lifts in their motor vehicles determined that their motor vehicles do not comply with FMVSS No. 404, Platform Lift Installation in Motor Vehicles. Ricon and the various vehicle manufacturers, collectively referred to as the “the petitioners,” filed the appropriate noncompliance reports and subsequently petitioned NHTSA for a decision that the subject noncompliance is inconsequential as it relates to motor vehicle safety. This document announces the grant of the petitioners' petitions.

FOR FURTHER INFORMATION CONTACT: Ahmad Barnes, Office of Vehicle Safety Compliance, the National Highway Traffic Safety Administration (NHTSA), (202) 366-7236 Ahmad.Barnes@dot.gov.

SUPPLEMENTARY INFORMATION:

I. Overview: Ricon determined that certain Mirage, S-Series, and K-Series wheelchair lifts do not fully comply with paragraph S6.10.2.6 of FMVSS No. 403, Platform Lift Systems for Motor Vehicles (49 CFR 571.403) and filed noncompliance reports, dated May 15, 2018, and May 25, 2018, (and later amended their May 15, 2018, noncompliance report on June 12, 2019) pursuant to 49 CFR part 573, Defect and Noncompliance Responsibility and Reports. Ricon subsequently petitioned NHTSA on June 13, 2018, for an exemption from the notification and remedy requirements of 49 U.S.C. chapter 301 contending that the noncompliance is inconsequential as it relates to motor vehicle safety pursuant to 49 U.S.C. 30118(d) and 30120(h) and 49 CFR part 556, Exemption for Inconsequential Defect or Noncompliance.

Because of Ricon's determination, the following vehicle manufacturers who installed the S Series, and K Series wheelchair lifts in their motor vehicles determined that their motor vehicles do not fully comply with paragraph S4.1.1 of FMVSS No. 404, Platform Lift Installation in Motor Vehicles (49 CFR 571.404). The various vehicle manufacturers also filed noncompliance reports, pursuant to 49 CFR part 573, Defect and Noncompliance Responsibility and Reports and subsequently petitioned NHTSA, for an exemption from the notification and remedy requirements of 49 U.S.C. chapter 301 on the basis that this noncompliance is inconsequential as it relates to motor vehicle safety pursuant to 49 U.S.C. 30118(d) and 30120(h) and 49 CFR part 556, Exemption for Inconsequential Defect or Noncompliance.

ElDorado Mobility, Inc. (ElDorado) determined that certain model year (MY) 2014-2018 Revability Advantage Ram Promaster 1500 and 2500 motor vehicles do not fully comply with paragraph S4.1.1 of FMVSS No. 404. ElDorado filed a noncompliance report dated July 3, 2018, and later amended it on August 11, 2018. ElDorado petitioned NHTSA on August 6, 2018.

Champion Bus, Inc. (Champion) determined that certain MY 2012-2018 Champion buses do not fully comply with paragraph S4.1.1 of FMVSS No. 404. Champion filed a noncompliance report dated July 5, 2018, and later amended that report on August 11, 2018. Champion petitioned NHTSA on August 8, 2018.

Collins Bus Corporation (Collins) determined that certain MY 2012-2018 Collins school buses do not fully comply with paragraph S4.1.1 of FMVSS No. 404. Collins filed a noncompliance report dated July 10, 2018, and later amended it on August 11, 2018. Collins petitioned NHTSA on August 7, 2018.

ElDorado National Kansas (ENC) determined that certain MY 2012-2018 ENC buses do not fully comply with paragraph S4.1.1 of FMVSS No. 404. ENC filed a noncompliance report on July 3, 2018, and later amended it on August 11, 2018. ENC petitioned NHTSA on August 6, 2018.

Daimler Trucks North America, LLC (DTNA) determined that certain MY 2013-2019 Thomas Built Buses do not fully comply with paragraph S4.1.1 of FMVSS No. 404. DTNA filed two noncompliance reports, both dated July 18, 2018, and later amended both reports on August 15, 2018. DTNA petitioned NHTSA on August 15, 2018.

Navistar, Inc. (Navistar) determined that certain MY 2013-2019 IC buses do not fully comply with paragraph S4.1.1 of FMVSS No. 404. Navistar filed two noncompliance reports both dated June 20, 2018, and both were later amended on August 17, 2018. Navistar petitioned NHTSA on July 19, 2018, and amended the petition on September 24, 2018.

Notice of receipt of Ricon's and the vehicle manufacturers' petitions was published with a 30-day public comment period, on April 30, 2021, in the Federal Register (86 FR 23038). No comments were received. To view the petition and all supporting documents log onto the Federal Docket Management System (FDMS) website at https://www.regulations.gov/. Then follow the online search instructions to locate docket number “NHTSA-2018-0095.”

II. Equipment and Vehicles Involved: On May 15, 2018, Ricon submitted a noncompliance report stating that approximately 29,245 S-Series and K-Series wheelchair lifts, manufactured between May 7, 2012, and May 9, 2018, were potentially involved. In conjunction with its May 15, 2018, noncompliance report, Ricon submitted a second noncompliance report on May 25, 2018, reporting approximately 2,454 Mirage wheelchair lifts, manufactured between October 2, 2012, and May 18, 2018, were also potentially involved. On June 13, 2018, Ricon filed an inconsequential noncompliance petition reporting 23,379 S-Series and K-Series wheelchair lifts and 2,454 Mirage wheelchair lifts were involved. NHTSA contacted Ricon to inquire about the differences in the number of S-Series and K-Series wheelchair lifts potentially involved as reported in its petition and noncompliance report. This led to Ricon amending their May 15, 2018, noncompliance report on June 12, 2019, changing the number of S-Series and K-Series wheelchair lifts potentially involved from 29,245 to 23,379 and the production dates from May 7, 2012, through May 9, 2018, to October 2, 2012, through May 9, 2018.

In concert with Ricon's filings, 6 original equipment manufacturers (OEMs) who Ricon sold lifts to and who installed the S-Series and K-Series lifts in its vehicles also filed noncompliance reports and inconsequential noncompliance petitions. Appropriately, ElDorado, Champion, Collins, ENC, DTNA, and Navistar determined the following vehicles are potentially involved:

Approximately 42 MY 2014-2018 Eldorado Revability Advantage Ram Promaster 1500/2500 motor vehicles, manufactured between September 1, 2014, and June 30, 2018.

Approximately 1,500 MY 2012-2018 Champion Challenger, Defender, Crusader, American, American Coach, American Crusader, CTS-FE, CTS-RE, HC American, Platinum Shuttle, and Stacked Rail Impulse buses, manufactured between May 7, 2012, and May 9, 2018.

Approximately 1,947 MY 2012-2018 Collins multi-function school activity buses (MFSAB) and Commercial buses, manufactured between May 1, 2012, and June 1, 2018.

Approximately 1,447 MY 2012-2018 Eldorado, Aerotech, Aerolite, Aero Elite, Transtech, Advantage, World Trans, and Impulse buses, manufactured between May 1, 2012, and June 1, 2018.

Approximately 31 MY 2013-2019 Thomas Built Buses Saf-T-Liner C2, Saf-T-Liner EFX, and Saf-T-Liner HDX commercial buses, manufactured between July 21, 2012, and April 4, 2018, and approximately 3,834 MY 2013-2019 Thomas Built Buses Saf-T-Liner C2, Saf-T-Liner EFX, and Saf-T-Liner HDX school buses, manufactured between May 5, 2012, and July 4, 2018.

Approximately 2,892 MY 2013-2014 IC Bus AE, MY 2013-2015 IC Bus BE, MY 2013-2019 IC Bus CE, MY 2013-2014 IC Bus RE, and 2016-2017 IC Bus RE school buses, manufactured between May 10, 2012, and May 2, 2018, and approximately 29 MY 2013-2018 IC Bus CE and RE commercial buses, manufactured between May 10, 2012, and November 7, 2017.

Ricon reported that 2,454 Mirage wheelchair lifts and 23,379 S-Series and K-Series wheelchair lifts are potentially involved while the OEMs reported, in total, 11,722 vehicles with the noncompliant S-Series and K-Series wheelchair lifts are potentially involved. To date, no OEMs have filed for the Mirage wheelchair lifts. On multiple occasions, NHTSA made inquiries to Ricon to reconcile the difference in the number of lifts Ricon reported as containing the noncompliance versus the number of vehicles equipped with these lifts. On June 10, 2020, Ricon provided a table reporting that 30,127 S-Series and K-Series wheelchair lifts were produced, with 7,055 going to dealers, 22,850 going to OEMs, and 222 to its parent company Wabtec Corporation (Wabtec). Below is a table that outlines the different numbers as reported by Ricon, by date, for the S-Series and K-Series wheelchair lifts and the total number of vehicles as reported by the OEMs.

RICON S-Series and K-Series Wheelchair Lifts Potentially Involved
| Ricon 5/15/18 reporting | Ricon 6/12/19 reporting | Ricon 6/10/20 reporting | Total OEM 573 reporting
DEALERS |  |  | 7,055 |
OEMs |  |  | 22,850 |
WABTEC * |  |  | 222 |
Total | 29,245 | 23,379 | 30,127 | 11,722
* Ricon is a subsidiary of WABTEC.

The total number of vehicles reported by the OEMs has not changed and the number S-Series and K-Series wheelchair lifts as reported by Ricon on June 10, 2020, are the most up-to-date numbers. Based on current numbers as shown in the table above, there are still 18,405 lifts that have not been accounted for. Despite several meetings and communication with Ricon aimed at identifying the distribution and disposition of lifts not sold directly to vehicle manufacturers NHTSA has not been able to obtain additional information about those lifts.

NHTSA also feels it is prudent to emphasize that filing a petition for inconsequential noncompliance does not relieve vehicle or equipment distributors and dealers from the prohibition on the sale, offer for sale, or introduction or delivery for introduction into interstate commerce of the noncompliant lifts and vehicles under their control after the petitioners notified them that the subject noncompliance existed.

III. Noncompliance: Ricon explains that its S-Series and K-Series platform lifts and its Mirage platform lifts do not comply with the outer barrier interlock requirements of FMVSS No. 403, S6.10.2.6 when tested in accordance with the test procedure at S7.5.1.1 and S7.5.1.2. As a consequence, certain commercial buses and school buses equipped with the subject lifts do not comply with paragraph S4.1.1 of FMVSS No. 404.

IV. Rule Requirements: FMVSS No. 403 contains a number of interlock requirements that prohibit movement of a lift under circumstances that could result in death or injury. Among these requirements paragraph S6.10.2.6 of FMVSS No. 403, sets forth limitations on permissible vertical movement of a platform lift with an undeployed outer barrier when that barrier is occupied by a passenger's body or mobility aid. Under these interlock requirements, the lift must stop, and the vertical change in distance of the horizontal plane (passing through the point of contact between the wheelchair test device wheel(s) and the upper surface of the outer barrier) must not be greater than 13 mm (0.5 in).

Paragraph S4.1.1 of FMVSS No. 404 requires lift-equipped buses, school buses, and MPVs other than motor homes with a GVWR greater than 4,536 kg (10,000 lbs.) to be equipped with a public-use lift certified as meeting FMVSS No. 403.

V. Summary of Petitions: The petitioners described the subject noncompliance and stated their belief that the noncompliance is inconsequential as it relates to motor vehicle safety. In support of their petitions, the petitioners submitted the following arguments:

1. The petitioners believe that the performance of the Ricon lifts does not create an increased risk to safety:

S-Series and K-Series Lifts

(a) Per the petitioners, the S-Series and K-Series lifts are used as both public-use and private-use lifts. The petitioners explain that the subject lifts are designed with a durable webbing retention belt, “which is attached to and when belted, extends across each of the handrails.” The petitioners believe that the retention belt serves two purposes and is a redundant safety feature. First, the petitioners state that the retention belt is a means to physically secure an occupant within the lift.” Furthermore, the petitioners state that the retention belt acts as an electrical interlock that is linked to the operation of the lift because buckling the retention belt closes an electrical circuit which, if open, prevents lift operation. If the belt is not buckled, the platform cannot move and the outer barrier will not move up or down.

(b) The petitioners contend that the subject noncompliance “arises only when the unit is tested to the directions provided in the test procedure itself, when the retention belt is buckled and the wheelchair test device attempts to access the outer barrier.” However, the petitioners contend that outside of the test environment, the retention belt would not be buckled (and the lift would not be powered at any time an occupant is attempting to traverse the outer barrier).

(c) The petitioners state that under the test conditions described in S7.5.1.1 of FMVSS No. 403, once the platform lift is at the ground level loading position with the outer barrier fully deployed, the wheelchair test device is placed on the platform. However, the petitioners maintain that an occupant secured by the buckled retention belt, the belt itself would prevent contact between the occupant or mobility device with the outer barrier. The petitioners reiterate that no power is sent to either the lift or the outer barrier when the belt is unbuckled, therefore, the petitioners claim that any time an occupant is present on the platform portion of the lift, the belt interlock protects occupants from inadvertent movement of the outer barrier.

(d) Alternatively, the petitioners note that the test procedure provides that if the wheelchair test device cannot access the outer barrier because of a belt retention type device, the test may alternatively be conducted with the wheelchair test device on the ground facing the entrance to the lift. In this case, the petitioners contend that, if an occupant were attempting to access the platform from ground level outside the vehicle, the outer barrier would not be able to move unless the belt was buckled. As a buckled retention belt would stretch across the entrance to the lift the lift attendant or private individual operator would have to unbuckle the belt to allow access to the platform. As an unbuckled belt would prevent lift or outer barrier movement and eliminate risk to the occupant accessing the lift.

(e) The petitioners also argue that S7.5.1.1 of the test procedure, which provides that the wheelchair test device should be placed on the ground facing the entrance to the lift when loading from the ground, is contrary to normal practice and the Ricon operator's manual instructions. According to the petitioners, the industry standard practice is to load wheelchair occupants onto a lift with their back to the vehicle to minimize the risk of injury to the feet and lower extremities stemming from contact with the vehicle.¹

¹ During the FMVSS No. 403 rulemaking process, the petitioners state, a manufacturer noted that portions of the rule had testing conducted in one direction when the owner's manual provided for a different loading direction. See 67 FR 425-26. The petitioners explain that the manufacturer took the position that such inconsistencies were contrary to the requirements of the ADA. In response, the petitioner states that NHTSA concluded that since the ADA does not apply to private use lifts, the loading requirements were not inconsistent with the ADA. Here, however, the Ricon lifts are used as public use lifts. Although the ADA states that the lift shall permit for boarding and unboarding in both directions, the petitioners argue that the industry practice and Ricon's (and other manufacturers) instructions provide for boarding in the reverse as an added level of occupant protection.

(f) The petitioners also state that the operator's manual and Ricon-provided decals facing outward on the vertical arms of the lift reinforce that the correct loading procedure is to have the lift rider face outward from the vehicle.

Mirage Lifts

(a) Per the petitioners, the Mirage lifts are public-use lifts. The Mirage lifts also incorporate a belt retention device into its design, but the belt interlock functions somewhat differently than the S-Series and K-Series lifts. The petitioners explain that the belts on the Mirage lifts act as an interlock sensor that detects whether the outer barrier is in a vertical (closed) position. When the outer barrier is closed and the retention belt is buckled, the platform can operate. If the belt is unbuckled, the outer barrier can move from horizontal (open) to vertical (closed), but the platform itself cannot operate.

(b) The petitioners state that as with the S-Series and K-Series lifts, when an occupant is on the platform, the occupant is to be secured by the restraint belt. To exit the lift and cross the outer barrier, the belt must be unbuckled. Unbuckling the retention belt eliminates power sent to the platform.

(c) The petitioners argue that NHTSA's concern in adopting the outer barrier interlock in 2007 was that occupants could be pitched from the lift if the lift moved when the outer barrier was occupied. The petitioners claim that this concern does not exist in Ricon's design. The petitioners explain that when the belt is unbuckled, as it would be anytime a person is entering or exiting the lift, the platform is not powered and cannot move. If the belt is buckled and the lift is powered, the retention belt blocks access to the outer barrier if the occupant is present on the platform.

2. NHTSA has previously granted petitions where wheelchair lifts did not meet the performance requirements of FMVSS No. 403.

(a) The petitioners say that the Agency has granted inconsequentiality petitions where the manufacturer has not met the performance requirements of FMVSS No. 403, finding that the noncompliance did not pose an increased risk to safety as the lift is used in the real world. The petitioners believe that the performance of Ricon's platform lifts is consistent with this precedent.

(b) For example, the petitioners contend the Agency granted a petition for decision of inconsequential noncompliance submitted by The Braun Corporation (Braun) where the lift handrails did not meet the values for deflection force.² The petitioners say that the noncompliance, in that case, is that the handrails collapsed when exposed to forces above the threshold requirement. However, the handrail did not collapse or fail catastrophically. The petitioners state that the Agency explained its concern in instituting the deflection force requirement was that the possibility of a catastrophic failure of the handrails would expose the occupant to a risk of injury. The petitioners say that the Agency anticipated that future tests would specify placement and direction of forces that will be more focused to address worst-case handrail displacement and real-world safety problems. The Agency, in the petitioners' view, recognized that the noncompliance in this case did not pose a safety concern that the handrail requirements were intended to address.

² See The Braun Corporation, Grant of Petition for Decision of Inconsequential Noncompliance; 72 FR 19754 (April 19, 2007).

(c) The petitioners note that, similar to the noncompliance in the Braun petition, the subject noncompliance in the Ricon outer barrier emerges only because of the revisions to the test procedure implemented in 2012. The petitioners claim that in actual use and consistent with the operator's manual, the retention belt should never be buckled when an occupant is attempting to traverse the outer barrier. Therefore, the petitioners claim the noncompliance does not create significant safety concern.

(d) The petitioners state that NHTSA has also granted an inconsequentiality petition submitted by Maxon Industry Inc. (Maxon) where the deployed wheelchair retention device was unable to withstand the required 1,600 pounds of force.³ In that case, the petitioners explain that the Maxon lifts included some designs where the outer barrier served as the wheelchair retention device and other designs with both a belt retention device and an outer barrier. The belt retention device also served as an electronic interlock that precluded the lift from moving up or down unless buckled.⁴ Per the petitioners, the Agency granted the petition as to the units which incorporated the retention belt and noncompliant outer barrier, finding that such a design did not create an increased risk to safety since the belt's operation precluded the lift from moving and prevented the stated safety concern. The petitioners contend that the Agency denied the petition as to those units without the retention belt, reasoning that the lift occupant would only be relying upon a noncompliant outer barrier for protection.

³ See Maxon Industry, Inc. DBA Maxonlift Corp.; Ruling on Petition for Determination of Inconsequential Noncompliance; 72 FR 28759 (May 22, 2007).

⁴ Ricon is aware of multiple manufacturers that use a belt interlock that functions in the same or similar manner to restrict the operation of the platform lift.

(e) The petitioners also state that Ricon lifts incorporate a retention belt that operates in the same manner as the belt described in the Maxon petition. In both cases, the belt precludes the lift from operating unless it is buckled. In granting the Maxon petition, the petitioners argue the Agency recognized the belt acted as a redundant safety feature (along with the technically noncompliant outer barrier) that precluded any safety risk. The petitioners state that the belt interlock in the Ricon lifts as well as the operator's manual instructions create similar redundancies and offer equivalent protection to occupants.

(f) Finally, the petitioners state the environment in which these lifts are used diminishes any potential risk to safety. When operated as a public use lift, the petitioners say there will be a lift attendant present to monitor the lift to ensure the occupant enters and exits the lift safely. When the lift attendant or private individual is following the operator's manual, the petitioners claim, there should not be an instance where the lift platform is powered and the occupant is unrestrained. Ricon has used this same design lift since the start of production for decades and without incident as it relates to the performance of the outer barrier interlock.

The petitioners conclude by expressing their belief that the subject noncompliance is inconsequential as it relates to motor vehicle safety, and that their petitions to be exempted from providing notification of the noncompliance, as required by 49 U.S.C. 30118, and a remedy for the noncompliance, as required by 49 U.S.C. 30120, should be granted.

The petitioners' petitions and all supporting documents are available through the Federal Docket Management System (FDMS) website at https://www.regulations.gov by following the online search instructions to locate the docket number as listed in the title of this notice.

VI. NHTSA's Analysis: The burden of establishing the inconsequentiality of a failure to comply with a performance requirement in an FMVSS—as opposed to a labeling requirement with no performance implications—is more substantial and difficult to meet. Accordingly, the Agency has not found many such noncompliances inconsequential.⁵

⁵ Cf. Gen. Motors Corporation; Ruling on Petition for Determination of Inconsequential Noncompliance, 69 FR 19897, 19899 (Apr. 14, 2004) (citing prior cases where noncompliance was expected to be imperceptible, or nearly so, to vehicle occupants or approaching drivers).

In determining inconsequentiality of a noncompliance, NHTSA focuses on the safety risk to individuals who experience the type of event against which a recall would otherwise protect.⁶ In general, NHTSA does not consider the absence of complaints or injuries when determining if a noncompliance is inconsequential to safety. The absence of complaints does not mean vehicle occupants have not experienced a safety issue, nor does it mean that there will not be safety issues in the future.⁷ Further, because each inconsequential noncompliance petition must be evaluated on its own facts and determinations are highly fact-dependent, NHTSA does not consider prior determinations as binding precedent. Petitioners are reminded that they have the burden of persuading NHTSA that the noncompliance is inconsequential to safety.

⁶ See Gen. Motors, LLC; Grant of Petition for Decision of Inconsequential Noncompliance, 78 FR 35355 (June 12, 2013) (finding noncompliance had no effect on occupant safety because it had no effect on the proper operation of the occupant classification system and the correct deployment of an air bag); Osram Sylvania Prods. Inc.; Grant of Petition for Decision of Inconsequential Noncompliance, 78 FR 46000 (July 30, 2013) (finding occupant using noncompliant light source would not be exposed to significantly greater risk than occupant using similar compliant light source).

⁷ See Morgan 3 Wheeler Limited; Denial of Petition for Decision of Inconsequential Noncompliance, 81 FR 21663, 21666 (Apr. 12, 2016); see also United States v. Gen. Motors Corp., 565 F.2d 754, 759 (D.C. Cir. 1977) (finding defect poses an unreasonable risk when it “results in hazards as potentially dangerous as sudden engine fire, and where there is no dispute that at least some such hazards, in this case fires, can definitely be expected to occur in the future”).

The purpose of this standard is to prevent injuries and fatalities to passengers and bystanders during the operation of platform lifts installed in motor vehicles. Compliance with the outer barrier interlock requirements in section S6.10.2.6 is determined by using the test procedure in section S7.5. In that test, a mobility device simulator is placed such that a wheel or wheels are on the outer barrier and the interlock must prevent vertical movement of the lift from the ground level loading position within prescribed limits. As described by the petitioners, the retention belt interlock on the subject lifts is the functional equivalent of the interlock mechanism meeting S6.10.2.6 and provided the same level of safety. If the retention belt is buckled, the electrical circuit is closed and the platform and outer barrier can operate when the buttons on the operator's pendant are pressed. If the belt is un-buckled, the electrical circuit is broken and there is no power to the lift and the platform cannot move and the outer barrier will not deploy in either direction.

NHTSA agrees that the use and location of the retention belt on Ricon lifts, along with the operator's manual and instruction labels provided on the lifts provide a sufficient level of safety such that the noncompliance present in this case is inconsequential to safety. In so doing, the agency notes that it is unlikely that an operator or user of the subject lifts would attempt to load the lift with the restraint belt still buckled, particularly when the normal practice of loading the lift with the occupant facing outward is followed. If an occupant began to back onto the lift platform, access would be prevented by the forward location of the belt and the belt's contact with the wheelchair back. It is therefore certain that a lift operator would unbuckle the belt before attempting to load the passenger. Although there is the possibility of lift users tampering with or defeating a belt interlock to avoid using the belt restraint, NHTSA is not aware that this is a significant problem that should be factored into the agency's consideration of the subject Ricon petition.

As stated by the petitioners, NHTSA has previously granted similar petitions for inconsequential noncompliance for performance requirements of FMVSS No. 403. Specifically, in the Maxon petition ⁸ referenced by the petitioners, NHTSA determined that Maxon adequately demonstrated that, under the specific facts and circumstances in that case, the noncompliance with FMVSS No. 403 in the affected lifts with restraint belts was inconsequential to motor vehicle safety. However, NHTSA also denied Maxon's petition in part because the noncompliance in the lifts without restraint belts was deemed to be consequential because the absence of belts or other secondary wheelchair retention devices meant that lift users' safety was dependent entirely on the noncompliant outer barrier.

⁸ See Maxon Industry, Inc. DBA Maxonlift Corp.; Ruling on Petition for Determination of Inconsequential Noncompliance; 72 FR 28759 (May 22, 2007).

Despite the previous response to the Maxon petition, NHTSA's current view is that a belt interlock could protect wheelchair occupants despite a noncompliant outer barrier if operated as Ricon describes. NHTSA's previous statements about platforms that include belt-type restraints (see Final Rule 77 FR 20558, at 20561-62) only addressed very specific test procedure issues and did not address whether an interlock-equipped restraint-belt can satisfy the interlock requirements of S6.10.2.5 and S6.10.2.6. The agency has never intended to limit the use of restraint belts and continues to allow them as a useful safety feature. (Although there may at one time have been a concern about belt misuse in the case of private-use lifts, i.e., lift users intentionally bypassing the belt interlock to avoid using a belt, the agency is not aware of any data suggesting that misuse is a significant concern.) In the case of the present Ricon lifts, by use of professional operators and forward-facing wheelchair seated occupants, NHTSA is persuaded that a belt interlock, because it completely disables operation of the lift, serves the required safety function of the barrier interlock. Furthermore, the subject Ricon lifts meet all other FMVSS No. 403 outer barrier requirements, particularly the structural strength of the impact requirements, so they provide effective containment of wheelchairs and other users on the subject lifts, and thus meet the intended safety need.

VII. NHTSA's Decision: In consideration of the foregoing, NHTSA finds that the petitioners have met their burden of persuasion that the subject FMVSS No. 403 and FMVSS No. 404 noncompliance in the affected vehicles and equipment is inconsequential to motor vehicle safety. Accordingly, the petitioners' petitions are hereby granted and Ricon and the various vehicle manufacturers are consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject lifts and buses that the petitioners no longer controlled at the time it determined that the noncompliance existed. However, the granting of these petitions does not relieve vehicle or equipment distributors and dealers of the prohibitions on the sale, offer for sale, or introduction or delivery for introduction into interstate commerce of the noncompliant lifts and buses under their control after the petitioners notified them that the subject noncompliance existed.

(Authority: 49 U.S.C. 30118, 30120: delegations of authority at 49 CFR 1.95 and 501.8)

Otto G. Matheke III,
Director, Office of Vehicle Safety Compliance.

[FR Doc. 2024-17818 Filed 8-9-24; 8:45 am]

BILLING CODE 4910-59-P